DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) is submitting a request for review and approval of a collection of information under the emergency processing procedures in Office of Management and Budget (OMB) regulation 5 CFR 1320.13. FEMA is requesting that this information collection be approved by June 19, 2006. The approval will authorize FEMA to use the collection for 180 days through December 2006. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: Section 205 of The Bunning-Bereuter-Blumenauer Flood Insurance Reform Act (FIRA) of 2004 (Pub. L. 108-264) 42 U.S.C. 4011 requires FEMA to establish by regulation an additional process for the appeal of decisions of flood insurance claims issued through the NFIP. The appeals process is available after the issuance of the insurer's final claim determination, which is the insurer's written denial, in whole or in part, of the insured's claim. An insured must file an appeal within 60 days after receiving the insurer's final claim determination. Collection of Information:

Title: National Flood Insurance Program Appeals Process.

Type of Information Collection: Existing collection in use without an OMB control number.

OMB Number: 1660-NW20.

Abstract: This information collection implements the mandates of section 205 of the Flood Insurance Reform Act (FIRA) to establish an appeal process for NFIP policyholders in cases of unsatisfactory decisions on SFIP claims, proof of loss, and loss estimates made by any insurance company, agent, adjuster, or FEMA employee or contractor.

Affected Public: Individuals and households policyholders.

Number of Respondents: 2,000.

Estimated Time per Respondent: 2 hours.

Estimated Total Annual Burden Hours: 4,000 hours.

Estimated Cost: Total cost to all respondents combined is estimated at $55,720.00 with an average cost per respondent of $28.00/appeal.

Frequency of Response: Once (Per Appeal).

Comments: Written comments are solicited to (a) evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide us with a copy of your comments. FEMA will continue to accept comments from interested persons through July 18, 2006. Submit comments to the FEMA address listed in the FOR FURTHER INFORMATION CONTACT caption.

OMB Address: Interested persons are invited to submit written comments on the proposed information collection to the Office of Information and Regulatory Affairs, Attn: OMB Desk Officer for the Federal Emergency Management Agency, Department of Homeland Security, (Proposed New Information Collection—1660-NW20), facsimile number (202) 395-6974.

FOR FURTHER INFORMATION CONTACT: Requests for additional information or copies of the information collection should be made to Chief, Records Management, Information Resources Management Branch, Information Technology Services Division, Federal Emergency Management Agency, 500 C Street, SW., Room 316, Washington, DC 20472. Facsimile number (202) 646-3347, or at e-mail address FEMA-Information-Collections@dhs.gov.

Dated: May 16, 2006.
Darcy Bingham,
Branch Chief, Information Resources Management Branch, Information Technology Services Division.

[FR Doc. E6-7677 Filed 5-18-06; 8:45 am]

BILLING CODE 9110-11-P